ENVIRONMENTAL PROTECTION AGENCY

40 CFR Part 52

[EPA-R08-OAR-2007-0617; FRL-8570-2]

Clean Air Act Approval and Promulgation of Air Quality Implementation Plan Revision for North Dakota; Revisions to the Air Pollution Control Rules and Alternative Monitoring Plan for Mandan Refinery; Delegation of Authority for New Source Performance Standards

Correction

In rule document E8-11479 beginning on page 30308 in the issue of Tuesday, May 27, 2008 make the following correction:

§52.1820 [Corrected]

On page 30314, in the table at §52.1820(c) entitled State of North Dakota Regulations, in the first column, in the second entry, in the third line, “m, 33-15-04-” should read “33-15-04-”.

[FR Doc. Z8-11479 Filed 6-26-08; 8:45 am]

BILLING CODE 1505-01-D

DEPARTMENT OF THE TREASURY

Internal Revenue Service

26 CFR Parts 1 and 301

[TD 9391]

RIN 1545-BF85

Source Rules Involving U.S. Possessions and Other Conforming Changes

Correction

In correction rule document C8-1105 appearing on page 32629 in the issue of Monday, June 9, 2008 make the following correction:

§1.937-2 [Corrected]

1. On page 19373, in §1.937-2(k) at Example 2.(ii), the equation is being reprinted correctly as set forth below.

[FR Doc. C8-1105 Filed 6-26-08; 8:45 am]

BILLING CODE 1505-01-D